ENVIRONMENTAL PROTECTION AGENCY

[FRL-7978-1; RFA NO: EPA-OEE-05-03]

Office of Environmental Education; Environmental Education Grants Program Solicitation Notice for 2006 Announcement Type: New Announcement

Catalog of Federal Domestic Assistance: 66.951.

Application Deadline: The closing date and time for receipt of Applications is November 23, 2005, 5 p.m. All applications, however transmitted, must be received in Headquarters or a Regional Office by the closing date and time to receive consideration. See Section IV(D) for further information.

Where To Send Applications: Mailing addresses are provided in Section VII.

Authorizing Legislation: Section 6 of the National Environmental Education Act of 1990 (Pub. L. 101-619).

Number of Awards: 150 grants are estimated, subject to the availability of funds and the quality of applications received. Most grants will be in the $10,000 to $15,000 range.

Funding Amount: Approximately $3 million.

Cost Sharing Requirement: Applicant must provide non-federal matching funds of at least 25% of the total cost of the project.

Project Period: July 1, 2006 is the earliest start date and most grants are for one year.

Award Date: July 1, 2006.

Contents By Section

I. Funding Opportunity Description

II. Award Information

III. Eligibility Information

IV. Application and Submission Information

V. Application Review Information

VI. Award Administration Information

VII. Agency Contacts

Appendices

A—Federal Forms and Instructions

B—Checklist for Proposal and Performance Measures

Full Text of Announcement

Section I. Funding Opportunity Description

A. Summary

This document solicits grant proposals to support environmental education projects that promote environmental stewardship and help develop aware and responsible students, teachers, and citizens. This grant program provides financial support for projects which design, demonstrate, or disseminate environmental education practices, methods, or techniques as described in this notice. This solicitation notice contains all the information and forms necessary to prepare a proposal. If your project is selected as a finalist after the evaluation process is concluded, EPA will provide you with additional federal forms and requests for any other information needed to process your proposal.

B. EPA Strategic Plan Linkage and Anticipated Results

(1) Linkage to EPA Strategic Plan: The environmental education grants program supports progress towards EPA Strategic Goal 5 (Compliance and Environmental Stewardship), Objective 5.2 (Improve Environmental Performance through Pollution Prevention and Innovation), and Sub-Objective 5.2.1 (Prevent pollution and promote environmental stewardship by government and the public). Recipients of these grants will further EPA's strategic goals by implementing environmental education projects that improve environmental behavior through nonregulatory means, raise the public's awareness of actions it can take to prevent pollution, and promote environmental stewardship. EPA, in negotiating an assistance agreement work plan under this competition, will ensure that the work plan contains well-defined outputs, and to the extent practicable, well-defined outcomes.

Environmental Stewardship is defined for environmental education purposes as: Voluntary commitment, behavior, and accomplishments that result in environmental protection or improvement. Stewardship refers to an acceptance of personal responsibility for actions to improve environmental quality and to achieve sustainable outcomes. Stewardship involves initiatives and actions to enhance the state of the environment for the benefit of humanity and the animal kingdom. Some examples are: Minimizing or eliminating pollution at its source; using energy and natural resources efficiently; decreasing the use of hazardous chemicals; recycling wastes effectively; and conserving or restoring forests, prairies, wetlands, rivers, and urban parks to improve the quality of ecosystems, health, and life itself. Stewardship can be practiced by individuals, groups, schools, organizations, companies, communities, and government organizations.

(2) Outputs refer to measurable quantitative or qualitative activities, efforts, deliverables, or work products that the applicant proposes to undertake during the project period. EPA anticipates that outputs from the awards made under this announcement will include: Outreach projects to educate the public about environmental issues; the conduct of workshops, classroom activities, or field trips; training sessions for educators; development of educational materials and Web sites; and the conduct of needs assessments. See Appendix B for further information on outputs. A grant proposal must clearly define outputs that can be measured during the funding period. Grant recipients are required to submit to EPA status reports about their progress achieving outputs once the project is implemented.

(3) Outcomes refer to the result, effect, or consequence that will occur from carrying out the activities or outputs of the environmental education project that will support the EPA strategic goal. Outcomes may be environmental, behavioral, health-related or programmatic, must be quantitative, and may not necessarily be achievable during the project period. Outcomes may also be classified as short-, medium-, and long-term. Short-term outcomes include: Increased learning, knowledge, skills, attitudes, and motivation and must occur during the project period. Medium-term outcomes include: Decisions, actions, practices, and behavior which are the foundations of stewardship. For example, a project directed at students might include students cleaning up a stream, beach, habitat, or nature trail. A project directed at teachers might include teachers taking newly acquired skills into classrooms to teach and motivate students. Most projects will accomplish some medium-term outcomes during the project period. Long-term outcomes include: Enhanced civic responsibility, educational improvements; and environmental improvements. These outcomes are longer term and may occur after the project closes, such as a more environmentally literate public that takes action to restore or protect a watershed or transform a brownfields site into an inner city park.

Anticipated outcomes for environmental education grants include: (1) Promotion of environmental stewardship; (2) increased environmental knowledge and public awareness of environmental issues as measured by pre- and post-training surveys; (3) improved environmental literacy; (4) improved teacher access to training and research on environmental topics; and (5) sustainable environmental education programs. See Appendix B for further information on outcomes.

(4) Environmental Results and Performance Measures refer to methods of determining how successful you are at completing your planned outputs and outcomes, which must result in improved environmental results over time. Progress reports to EPA must document that outputs and short-term outcomes are completed, and that progress was made on medium- and long-term outcomes. See Section V(B)(3), for the requirements on evaluating your success in measuring performance. Your proposal must address those outputs and outcomes (as identified above and in Appendix B) that are appropriate for your project.

In summary, all proposals must promote stewardship and define measurable results that can be evaluated and reported to EPA once a grant project is underway.

C. Statutory Authority for Education

Section 6 of the National Environmental Education Act of 1990 (Pub. L. 101-619) authorizes the award of Environmental Education Grants. For purposes of this action, Environmental “Education” and “Information” are defined as follows:

Environmental Education: Increases public awareness and knowledge about environmental issues and provides the skills necessary to make informed decisions and take responsible actions. It is based on objective and scientifically sound information. It does not advocate a particular viewpoint or course of action. It teaches individuals how to weigh various sides of an issue through critical thinking and it enhances their own problem-solving and decision making skills.

Environmental Information: Proposals that simply disseminate “information” will not be funded. For example, projects that provide facts or opinions about environmental issues or problems, but may not enhance critical-thinking, problem solving or decision-making skills. Although information is an essential element of any educational effort, environmental information is not, by itself, environmental education.

D. Educational Priorities for Funding and Definition of Terms

All proposals must satisfy the definition of “environmental education” specified above and also address at least one of these educational priorities to qualify for a grant. The order of the list is random and does not indicate a ranking.

(1) Capacity Building: Increasing capacity to develop and deliver coordinated environmental education programs across a state or across multiple states.

(2) Education Reform: Utilizing environmental education as a catalyst to advance state or local education reform goals.

(3) Community Issues: Designing and implementing model projects to educate the public about environmental issues and/or health issues in their communities through community-based organizations or through print, film, broadcast, or other media.

(4) Health: Educating teachers, students, parents, community leaders, or the public about human-health threats from environmental pollution, especially as it affects children, and how to minimize human exposure to preserve good health.

(5) Teaching Skills: Educating teachers, faculty, or nonformal educators about environmental issues to improve their environmental education teaching skills, e.g., through workshops.

(6) Career Development: Educating students in formal or nonformal settings about environmental issues to encourage environmental careers.

Definitions: The terms used above and in Section IV are defined as follows:

Capacity Building as used here has a statewide focus and many proposals have been rejected for failure to satisfy the scope of this definition. If you plan to address this priority, please read this whole paragraph carefully. Capacity building requires networking with various types of educational organizations and statewide implementation of educational programs. If your project fails to meet these objectives, please select another educational priority. For purposes of this program, “Capacity Building” refers to developing effective leaders and organizations that design, implement, and link environmental education programs across a state or states to promote long-term sustainability of the programs. Coordination should involve all major education and environmental education providers including state education and natural resource agencies, schools and school districts, professional education associations, nonprofit educational and tribal organizations. Effective efforts leverage available resources and decrease fragmentation of effort and duplication across programs. Examples of activities include: Identifying and assessing needs and setting priorities; identifying funding sources and resources; facilitating communication and networking; promoting sustained professional development; and sponsoring leadership seminars. If existing capacity building efforts are underway in your state, please explain how you will support those efforts with your proposal.

Education Reform refers to state, local, or tribal efforts to improve student academic achievement. Education reform efforts often focus on changes in curriculum, instruction, assessment, or how schools are organized. Curriculum and instructional changes may include inquiry and problem solving, real-world learning experiences, project-based learning, team building and group decision-making, and interdisciplinary study. Assessment changes may include developing content and performance standards and realigning curriculum and instruction to the new standards and new assessments. School site changes may include creating magnet schools or encouraging parental and community involvement. Note: All proposals must identify existing educational improvement needs and goals and discuss how the proposed project will address these needs and goals.

Environmental issue is one of importance to the community, state, or region being targeted by the project, i.e., one community may have significant air pollution problems which makes teaching about human health effects from it and solutions to air pollution important, while rapid development in another community may threaten a nearby wildlife habitat, thus making habitat or ecosystem protection a high priority issue.

Partnerships refers to the forming of a collaborative working relationship between two or more organizations such as governmental agencies, not-for-profit organizations, educational institutions, and/or the private sector. It may also refer to intra-organizational unions such as the science and anthropology departments within a university collaborating on a project.

Section II. Award Information

A. Type of Assistance Instrument To Be Awarded

Assistance Agreement (Grant).

B. Number and Amount of Awards

Approximately $3 million is available for awards under this announcement. This grant program generates a great deal of public enthusiasm for developing environmental education projects. Consequently, EPA receives more applications for these grants than can be supported with available funds. Under this announcement, Headquarters awards grants larger than $50,000 in federal funds and the 10 EPA Regional Offices fund the smaller grants. The competition for grants is intense, especially at Headquarters which often receives between 150 and 200 proposals and will fund 10 to12 grants, or less than 10% of the applicants. The average size of Headquarters grants is about $79,000. EPA grants in excess of $100,000 are seldom awarded through this program and proposals for Headquarters grants over $150,000 will not be considered.

Regional offices usually receive fewer proposals than Headquarters and typically fund between 12 and 15 grants per Region, or about 30% of the applications received. The total number of grants awarded in all Regions nationwide will exceed 100 grants. Most of those grants will be in the $10,000 to $15,000 range and none will exceed $50,000. Proposals for Regional grants over $50,000 will not be considered.

A large share of the annual funding is distributed through the Regional office grants because Congress directs EPA to award small grants to local schools and organizations. By limiting the size of the grants, EPA is able to reach more applicant organizations.

C. Other Funding Provisions

EPA reserves the right to reject all proposals and make no awards under this announcement. EPA also reserves the right to fund additional awards for up to 4-months after the original selections are made, if additional funding becomes available, and consistent with Agency policy. In addition, EPA reserves the right to partially fund proposals by funding discrete activities, portions, or phases of a proposed project. If EPA decides to partially fund a proposal, it will do so in a manner that does not prejudice any applicants or affect the basis upon which the proposal, or portion thereof, was evaluated or selected for award, and that maintains the integrity of the competition and the evaluation/selection process.

D. Multiple or Repeat Proposals

An organization may submit more than one proposal to Headquarters and or a Regional office if the proposals are for different projects. No organization will be awarded more than one grant for the same project during the same fiscal year. Applicants who received one of these grants in the past may submit a new proposal for a different project. All proposals will be considered new and will be evaluated based upon the specific criteria set forth in this solicitation. Only those with the highest scores each annual cycle will receive grants. Due to limited resources, EPA does not sustain projects beyond the initial grant period. This grant program is geared toward providing seed money to initiate new projects or to advance existing projects that are “new” in some way, such as reaching new audiences or new locations. If you received a grant from this program in the past, it is essential that you explain how your current proposal is new.

Section III. Eligibility Information

A. Threshold Eligibility Criteria

All proposals will first be reviewed for compliance with threshold eligibility factors, which are described in more detail below. In addition, applications must be received by EPA on or before the solicitation closing date published in Section IV of this announcement. Applications received after the published closing date will be returned to the sender without further consideration.

Proposals must meet all of the threshold factors in order to be eligible for funding. Only those proposals that are deemed eligible will be reviewed based on the factors identified in Section V(B). The threshold criteria are:

(1) Proposal must substantially comply with the submission instructions in Section IV(D);

(2) The Applicant must be an eligible organization (see Section III(B) for more details on eligible applicants);

(3) The Applicant must meet the non-federal match (see Section III(C) below for more information);

(4)(a) For Headquarters grants, the Applicant requests $150,000 or less; (b) For Regional grants, the Applicant requests $50,000 or less;

(5) The Applicant must propose a project that meets the definition of environmental education (see Section I(C) for more information);

(6) The Applicant must meet at least one of the educational priorities (See Section I(D) for more information); and

(7) The Applicant must propose to perform an eligible activity (See Section III(D) for more information)

B. Eligible Applicants

Any local education agency, college or university, state education or environmental agency, not-for-profit organization as described in Section 501(c)(3) of the Internal Revenue Code, or noncommercial educational broadcasting entity may submit a proposal. Applicant organizations must be located in the United States or territories and the majority of the educational activities must take place in the United States and territories, Canada, and/or Mexico.

“Tribal education agencies” which may also apply include a school or community college which is controlled by an Indian tribe, band, or nation, which is recognized as eligible for special programs and services provided by the United States to Indians because of their status as Indians and which is not administered by the Bureau of Indian Affairs. Tribal organizations do not qualify unless they meet this criteria or the not-for-profit criteria listed above. The terms for eligibility are defined in Section 3 of the Act and 40 CFR 47.105.

A teacher's school district, an educator's nonprofit organization, or a faculty member's college or university may apply, but an individual teacher or faculty member may not apply.

C. Matching Funds

Non-federal matching funds of at least 25% of the total cost of the grant project are required. The matching requirement is explained in detail in Section IV(A)(4) under Budget and Non-Federal Match.

D. Ineligible Activities

Environmental education funds cannot be used for:

(1) Technical training of environmental management professionals;

(2) Environmental “information” projects that have no educational component, as described above in Section I(C);

(3) Lobbying or political activities as defined in OMB Circulars A-21, A-87 and A-122;

(4) Advocacy promoting a particular point of view or course of action;

(5) Non-educational research and development; or

(6) Construction projects—EPA will not fund construction activities such as the acquisition of real property (e.g., buildings) or the construction or modification of any building. EPA may, however, fund activities such as creating a nature trail or building a bird watching station as long as these items are an integral part of the environmental education project, and the cost is a relatively small percentage of the total amount of federal funds requested.

Section IV. Application and Submission Information

A. Content and Form of Proposal

The proposal must contain the following information: (1) Two standard federal application and budget forms; (2) project summary sheet; (3) project description; (4) project evaluation plan and criteria; (5) detailed budget; (6) timeline; (7) description of organization and personnel; and (8) letters of commitment (if you have partner organizations). Please follow the instructions below and do not submit additional items. EPA must make copies of your proposal for use by grant reviewers. Unnecessary cover letters, attachments, divider sheets, forms, or binders create a paperwork burden for the reviewers and are not helpful. The proposal must explicitly describe the applicant's proposed project and specifically address each of the evaluation factors disclosed in Section V(B).

Federal Forms: Application for Federal Assistance (SF-424) and Budget Information (SF-424A): These two forms are required for all federal grants and must be submitted on the front of your proposal. The two forms, along with instructions specific to this program and examples, are included at the end of this notice. These two forms can also be completed on our web site and printed off with your data and dollars included. Only finalists will be asked to submit additional federal forms necessary to process a federal grant.

Work Plan and Appendices: A work plan describes your proposed project, evaluation process, and your budget. Appendices establish your timeline, your qualifications, and any partnerships with other organizations. Grant reviewers look at many proposals, and providing your information in the order listed below prevents information from being overlooked. The work plan and appendices must address the ranking factors identified in Section V(B).

(1) Project Summary: Provide a one page overview of your entire project in the following format; pages in excess of one will not be reviewed.

(a) Organization: Briefly describe: (1) Your organization, and (2) list your key partners for this grant, if applicable. Partnerships are encouraged and considered to be a major factor in the success of projects. Full details about your organization and staff will be an appendix.

(b) Summary Statement: Provide an overview of your project that explains the concept and your goals and objectives. This should be a basic explanation in layman's terms to provide a reviewer with an understanding of the purpose and expected outcomes of your educational project. If a person unfamiliar with your project reads this paragraph and cannot grasp your basic concept, then you have not achieved what is requested here.

(c) Educational Priority: Identify which priority listed in Section I you will address, such as education reform or teaching skills. Proposals may address more than one educational priority for the same project; however, EPA cautions against losing focus on projects. Evaluation panels often select projects with a clearly defined purpose, rather than projects that attempt to address multiple priorities at the expense of a quality outcome.

(d) Delivery Method: Explain how you will reach your audience, such as workshops, conferences, field trips, interactive programs, etc.

(e) Audience: Describe the demographics of your target audience including the number and types you expect to reach, such as teachers and/or students and specific grade levels, health care providers, the general public, etc.

(f) Costs: List the types of activities on which you will spend the EPA portion of the grant funds.

(2) Project Description: Describe precisely what your project will achieve—why, who, when, how, and with what. Explain each aspect of your proposal clearly and address each topic below. If you choose to reorder the following paragraphs, include the headings below or you risk the possibility of information being overlooked when the project is scored. Please address all of the following to ensure that grant reviewers can fully comprehend and score your project correctly.

(a) Why: (i) Explain the purpose of your project and how it will address an educational priority listed in Section I, such as teaching skills.

(ii) Identify your environmental issue, such as energy conservation, clean air or water, ecosystem protection, or cross-cutting topics. Explain the importance to your community, state, or Region. If the project has the potential for wide application, and/or can serve as a model for use in other locations with a similar audience, explain how.

(iii) Stewardship: Explain how your project will increase environmental stewardship as defined in Section I.

(b) Who: Explain who will manage and conduct the project; also identify the target audience, the number to be trained, and demonstrate an understanding of the needs of that audience. Important: Explain your recruitment plan to attract your target audience, and clarify any incentives used such as stipends and continuing education credits.

(c) How: Explain your strategy, objectives (outputs and outcomes), activities, and delivery methods to establish that you have realistic goals and objectives and will use effective methods to achieve them. Clarify for the reviewers how you will complete all basic steps from beginning to end. Do not omit steps that lead up to or follow the actual delivery methods; e.g., if you plan to make a presentation about your project at a local or national conference, specify where.

(d) With What: Demonstrate that the project uses or produces quality educational products or methods that teach critical-thinking, problem-solving, and decision-making skills. Please note the following restrictions on the development of educational materials.

Please note: Guidance on Curriculum Development. EPA strongly encourages applicants to use and disseminate existing environmental education materials (curricula, training materials, activity books, etc.) rather than designing new materials, because experts indicate that a significant amount of quality educational materials have already been developed and are under-utilized. EPA will consider funding new materials only where the applicant demonstrates that there is a need; e.g., that existing educational materials cannot be adapted well to a particular local environmental concern or audience, or existing materials are not otherwise accessible. The applicant must specify what steps they have taken to determine this need, e.g., you may cite a conference where this need was discussed, the results of inquiries made within your community or with various educational institutions, or a research paper or other published document. Further, EPA recommends the use of a publication entitled Environmental Education Materials: Guidelines for Excellence which was developed in part with EPA funding. These guidelines contain recommendations for developing and selecting quality environmental education materials. On our Web site under “Resources” you may view these guidelines and find information about ordering copies. (Please note: Provide up to 5 pages total to address both the Project Description and the Project Evaluation; pages in excess of that will not be reviewed.)

(3) Project Evaluation: Explain how you will ensure that you are meeting the goals, objectives, outputs, and outcomes of your project. Evaluation plans may be quantitative and/or qualitative and may include, for example, evaluation tools, observation, or outside consultation. Pre and post-training questionnaires are recommended to determine if your performance measures for learning are being satisfied. Please Note: Section I(B) explains the EPA Strategic Plan and that all grants must support the EPA goals of promoting environmental stewardship and/or preventing pollution, and must result in improved environmental results over time.

In this section, you must explain your plans for tracking and measuring progress on your outputs and your short-term outcomes. If your medium- and long-term outcomes can also be measured within the project period, explain your plans for that evaluation as well. (Please note: As mentioned above, provide up to 5 pages total to address both the Project Description and the Project Evaluation; pages in excess of that will not be reviewed.)

(4) Budget and Non-Federal Match: Create a detailed budget to clarify in separate columns how EPA funds and non-federal matching funds will be used for specific items or activities. In the detailed budget, use the same order and headings listed on the Budget Form 424A; i.e., personnel/salaries, fringe benefits, travel, equipment, supplies, contract costs, and indirect costs, where appropriate. Provide details for each expense, such as personnel or travel, and make sure you factor in the costs for all proposed activities and clarify which will be paid by EPA. Smaller grants with uncomplicated budgets may have dollar columns (EPA and matching funds) that list only a few expenses and items. (See detailed instructions for Budget Form 424A at the back of this Notice).

Please note the following funding restrictions:

—Indirect costs may be requested if your organization has an Indirect Cost Rate Agreement on file with a Federal Agency, subject to audit

— Funds for salaries and fringe benefits may be requested only for those personnel who are directly involved in implementing the proposed project and whose salaries and fringe benefits are directly related to specific products or outcomes of the proposed project. EPA strongly encourages applicants to request reasonable amounts of funding for salaries and fringe benefits to ensure that your proposal is competitive.

—EPA will not fund the acquisition of real property (including buildings) or the construction or modification of any building.

Matching Funds Explanation: Non-federal matching funds must be at least 25% of the total cost of the project. The match must be for an allowable cost and may be provided by the applicant or a partner organization or institution. The match may be provided in cash or by in-kind contributions and other non-cash support. In-kind contributions often include salaries or other verifiable costs and this value must be carefully documented. In the case of salaries, applicants may use either minimum wage or fair market value. If the match is provided by a partner organization, the applicant is still responsible for proper accountability and documentation. All grants are subject to federal audit.

Important: The matching non-federal share is a percentage of the entire cost of the project. For example, if the 75% federal portion is $10,000, then the entire project should, at a minimum, have a budget of $13,333, with the recipient providing a contribution of $3,333. To assure that your match is sufficient, simply divide the federally requested amount by three. Your match must be at least one-third of the requested amount to be sufficient.

Other Federal Funds: You may use other federal funds in addition to those provided by this program, but not for activities that EPA is funding. You may not use any federal funds to meet any part of the required 25% match described above, unless it is specifically authorized by statute. If you have already been awarded federal funds for a project for which you are seeking additional support from this program, you must indicate those funds in the budget section of the work plan. You must also identify the project officer, agency, office, address, phone number, and the amount of the federal funds.

(5) Appendices:

(a) Timeline—Include a “timeline” to link your activities to a clear project schedule and indicate at what point over the months of your budget period each action, event, milestone, product development, etc. will occur.

(b) Background of Organization and Key Personnel—Attach a description of the programmatic capabilities of the lead organization and of partner organizations with significant roles in the project (see scoring criteria in Section V(B) for specific factors to address ). Also, include a paragraph describing qualifications of each of the key personnel conducting the project. If you send resumes, please keep it to a maximum of 3 one-page resumes.

(c) Letters of Commitment—If the applicant organization has partners, such as schools, state agencies, or other organizations, include letters of commitment from partners explaining their role in the proposed project. Do not include letters of endorsement or recommendation or have them mailed in later; they will not be considered in evaluating proposals.

Please do not submit other appendices or attachments. EPA may request such items if your proposal is among the finalists under consideration for funding.

B. Page Limits

As explained in Section IV.A, the entire narrative portion of the Work Plan (which includes the Project Summary, Project Description, and Project Evaluation) shall not exceed 6 pages—the Project Summary (1 page) and up to 5 pages total for both the Project Description and Project Evaluation. “One page” refers to one side of a single-spaced typed page. The pages must be letter-sized (8½ x 11 inches), with margins at least one-half inch wide and with a font size no smaller than 10 points. The Detailed Budget, Timeline, and Appendices are not included in the page limit.

C. Submission Requirements and Copies

The applicant must submit one original and two copies of the proposal (a signed SF-424, an SF-424A, a work plan, a detailed budget, and the appendices listed above). Do not include other attachments such as cover letters, tables of contents, additional federal forms, divider sheets, or appendices other than those listed above. Your pages should be sorted as listed in Section IV(A) with the SF-424 being the first page of your proposal and signed by a person authorized to receive funds. Blue ink for signatures is preferred. Proposals must be reproducible; they should not be bound. They should be stapled or clipped once in the upper left hand corner, on white paper, and with page numbers because many proposals get copied at one time.

Forms: If you receive this solicitation electronically and if the standard federal forms for Application (SF-424) and Budget (SF-424A) cannot be printed by your equipment, you may call or write the appropriate EPA office listed at the end of this document. If you locate the federal forms elsewhere, please read our instructions which have been modified for this grant program.

D. Submission Deadline and Project Period

(1) Due Date—The closing date and time for submission of completed applications is November 23, 2005, 5:00 p.m. based on the local time zone of the office for which the proposal is being submitted. All applications, however transmitted, must be received by Headquarters or a Regional Office by the closing date and time in order to receive consideration.

Applications may be submitted by U.S. Postal Service, express mail (such as FedEx and UPS), hand delivery, or courier service. Please see Section VII for additional information.

(2) Start Date and Length of Projects—July 1, 2006 is the earliest start date that applicants should plan on and enter on their application forms and timeline. Budget periods cannot exceed 1 year for small grants of $10,000 or less. EPA prefers a 1-year budget period for larger grants, but will accept a budget period of up to 2 years, if the project timeline clarifies that more than a year is necessary for full implementation of the project.

E. Mailing Addresses

Complete address information for Headquarters and the Regional Offices is provided in Section VII.

F. Other Submission Information

(1) DUNS Identification Number: All organizations applying for federal grant funds must have one of these numbers which can be acquired by calling Dun and Bradstreet toll free at 1-866-705-5711 or by visiting their Web site at http://www.dnb.com.

(2) Confidential Business Information: In accordance with 40 CFR 2.203, applicants may claim all or a portion of their application/proposal as confidential business information. EPA will evaluate confidentiality claims in accordance with 40 CFR Part 2. Applicants must clearly mark applications/proposals or portions of applications/proposals they claim as confidential. If no claim of confidentiality is made, EPA is not required to make the inquiry to the applicant otherwise required by 40 CFR 2.204(c)(2) prior to disclosure.

Section V. Application Review Information

A. Threshold Factors

Proposals will first be evaluated based on the threshold eligibility factors stated in Section III. The threshold eligibility review of Headquarters applications will be conducted by external environmental educators approved by EPA. The threshold eligibility review of Regional applications will be conducted by EPA officials or external environmental educators. Proposals that fail to meet all of the threshold eligibility factors will not be further considered and applicants will be notified accordingly. Headquarters and Regional proposals that meet all of the threshold eligibility factors in Section III will then be evaluated based on the criteria described below.

B. Full Evaluation and Scoring

Only those proposals that meet all of the threshold eligibility factors in Section III will be evaluated based on the factors below. Headquarters proposals will be reviewed by EPA officials and external environmental educators approved by EPA. Regional proposals will be reviewed by EPA officials, and external environmental educators approved by EPA may also be used. At the conclusion of the evaluation phase, the proposals will be ranked based upon the results of the evaluation. A maximum of 100 points is available as follows:

(1) Project Summary—Maximum Score: 10 points—The project summary will be evaluated based on the applicant's overview of the entire project as addressed in the Project Summary described in Section IV(A)(1).

(2) Project Description—Maximum Score: 40 points—Under this factor, proposals will be evaluated based on how well the applicant explained the need for the proposed project (10 points); how well the applicant designed and described the proposed project (10 points); how effectively the proposed project will accomplish the stated goals (10 points); and how well the applicant described specific tasks for the successful achievement of stated goals (10 points).

(3) Project Evaluation—Maximum Score: 15 points—The project evaluation score will be based on an assessment of: (a) The applicant's design and strategy for evaluation measures (5 points); (b) how effectively the applicant will measure or track its progress towards achieving the outputs and outcomes in Section I of this announcement (10 points).

(4) Budget—Maximum Score: 15 points—Under this factor, proposals will be evaluated based on: (a) How well the budget information clearly and accurately shows how funds will be used (5 points); (b) whether the funding request is reasonable given the activities proposed (5 points); and (c) whether the funding provides a good return on the investment (5 points).

(5) Appendices—Maximum Score: 20 points—Under this factor, proposals will be evaluated based on:

(a) Timeline: How well the timeline clarifies the workplan and establishes for reviewers that the project is well thought out and feasible as planned (5 points).

(b) Partnerships: The extent of partnership, and the extent to which a firm commitment is made by the partner to provide services, facilities, or funding (5 points).

(c) Programmatic Capability and Technical Experience: The applicant's demonstrated ability to successfully complete the proposed project based on its: (1) Past performance in successfully completing educational projects similar to the proposed project; (2) history of meeting reporting requirements on prior or current grants and submitting acceptable final technical reports; (3) organizational experience and plan for timely and successfully achieving the objectives of the project; and (4) staff expertise/qualifications, staff knowledge, and resources or the ability to obtain them, to successfully achieve the goals of the project. Under this factor, EPA will consider information provided by the applicant and may consider information from other sources including EPA agency files. In addition, applicants who do not have any relevant past performance or reporting history will receive a neutral evaluation for those elements of programmatic capability (10 points).

C. Final Selections

After the proposals are evaluated and scored by the reviewers, as described above, the respective Recommending Officials (EPA staff in the Office of Public Affairs for proposals submitted to Headquarters, and EPA Regional staff in the Office of Public Affairs or the equivalent for proposals submitted to the Regional offices) will select, from among the highest numerically ranked proposals in Headquarters and each of the Regions, a group of Headquarters and Regional finalists to recommend for award to the respective Headquarters and Regional Approving Officials. In determining which finalists to recommend for award (to the respective Headquarters and Regional Approving Officials) from among the highest numerically ranked proposals, the Recommending Officials will consider the following factors:

(1) Effectiveness of collaborative activities and partnerships, as needed to successfully implement the project;

(2) Environmental and educational importance of the activity or product;

(3) Effectiveness of the delivery mechanism (i.e., workshop, conference, etc.);

(4) Cost effectiveness of the proposal; and

(5) Geographic distribution of projects.

The Approving Official for Headquarters awards is a senior-level official in the Office of the Administrator. The Approving Official for Regional awards is a senior-level official within the Office of the Regional Administrator. In making the final funding decisions, the Approving Officials will consider the recommendations of the Recommending Officials and may also consider geographical balance and program balance.

Section VI. Award Administration Information

A. Notification to Applicants

Applicants will receive a confirmation that EPA has received their proposal after EPA has entered information about all proposals into a database, usually within 2 months after receipt. EPA will contact the highest scoring finalists to request additional federal forms and other information as recommended by reviewers; and send non-selection letters to the others. If selected for a grant, an award package will be mailed to the recipient organization explaining the responsibilities of the grantee. Non-selection letters will be sent within 15 business days after a decision of non-selection.

B. Responsible Officials

Projects must be performed by the applicant or by a person satisfactory to the applicant and EPA. All proposals must identify any person other than the applicant who will assist in carrying out the project. These individuals are responsible for receiving the grant award agreement from EPA and ensuring that all grant conditions are satisfied. Recipients are responsible for the successful completion of the project.

C. Incurring Costs

Grant recipients may begin incurring allowable costs on the start date identified in the EPA grant award agreement. Activities must be completed and funds spent within the time frames specified in the award agreement. EPA grant funds may be used only for the purposes set forth in the grant agreement and must conform to Federal cost principles contained in OMB Circulars A-87; A-122; and A-21, as appropriate. Ineligible costs will be deducted from the final grant award.

D. Reports and Work Products

Specific financial, technical, and other reporting requirements to measure the grant recipient's progress will be identified in the EPA grant award agreement. Grant recipients must submit formal quarterly or semi-annual progress reports, as instructed in the award agreement. Also, two copies of a final report and two copies of all work products must be sent to the EPA project officer within 90 days after the expiration of the budget period. This submission will be accepted as the final requirement, unless the EPA project officer notifies you that changes must be made or that tasks are incomplete.

E. Regulatory References

The Environmental Education Grant Program Regulations provide additional information on EPA's administration of this program (57 FR 8390; Title 40 CFR, part 47). Also, EPA's general assistance regulations at 40 CFR part 31 apply to state, local, and Indian tribal governments and 40 CFR part 30 applies to all other applicants such as nonprofit organizations.

F. Other Procedures

(1) Pre-application assistance: None planned.

(2) Dispute Resolution: Assistance agreement competition-related disputes will be resolved in accordance with the dispute resolution procedures published in 70 FR (Federal Register) 3629, 3630 (January 26, 2005) which can be found at http://a257.g.akamaitech.net/7/257/2422/01jan20051800/edocket.access.gpo.gov/2005/05-1371.htm.

G. Other Funding

Please note that this is a very competitive grant program. Limited funding is available and many qualified grant applications will not be funded by EPA even though efforts will be made to secure funding from all available sources within the Agency. If your project is not funded, you may wish to review other available grant programs on the main EPA Web site and in the Catalog of Federal Domestic Assistance at http://www.cfda.gov which lists funding opportunities. Nonprofit applicants that are recommended for funding will be subject to pre-award administrative capability reviews consistent with Sections 8.b, 8.c, and 9.d of EPA Order 5700.8.

Section VII. Agency Contacts

A. Internet: http://www.epa.gov/enviroed

Please visit our Web site where you can view and download: Federal forms, tips for developing successful grant applications, descriptions of projects funded under this program by state, and other education links and resource materials. The “Excellence in EE” series of publications listed there includes guidelines for: Developing and evaluating educational materials; the initial preparation of environmental educators; and using environmental education in grades K-12 to support state and local education reform goals.

B. Mailing List for Environmental Education Grants

If you wish to be notified when the next Solicitation Notice is issued, you should visit our Web site (http://www.epa.gov/enviroed) where you can log in for notification of a new notice. Or you can be added to a regular mailing list for a printed copy by mailing your request along with your name, organization, address, and phone number to: Environmental Education Grant Program (Year 2007), EPA Office of Environmental Education (1704 A), 1200 Pennsylvania Avenue, NW., Washington, DC 20460.

Dated: September 27, 2005.
Cece Kremer,
Deputy Chief of Staff, Office of the Administrator.

Mailing Addresses and Information

Applicants who need clarification about specific requirements in this Solicitation Notice may contact the Environmental Education Office in Washington, DC for grant requests of more than $50,000 in federal funds, or their EPA Regional office for grant requests of $50,000 or less. Applications may be submitted by U.S. Postal Service, express mail (such as FedEx and UPS), and hand delivery or courier service. Complete address information for Headquarters and the Regional Offices is provided below.

U.S. EPA Headquarters—For Proposals Requesting More Than $50,000 From EPA

For submission by U.S. Postal Service: Environmental Education Grant Program, Office of Environmental Education (1704 A), 1200 Pennsylvania Avenue, NW., Washington, DC 20460.

For submission by express mail (Fed Ex and UPS), hand delivery, or courier service: Office of Environmental Education (Room 1426A North), 1200 Pennsylvania Avenue, NW., Washington, DC 20004. (202) 564-0443.

Information: Diane Berger or Sheri Jojokian (202) 564-0451.

U.S. EPA Regional Offices—For Proposals Requesting $50,000 or Less From EPA

Mail the proposal to the Regional Office where the project will take place, rather than where the applicant is located, if these locations are different.

The addresses provided below are for proposals submitted by U.S. Postal Service. If you are interested in submitting your proposal by express mail, hand delivery, or courier service, please contact the Regional Office for additional information.

EPA Region I—CT, ME, MA, NH, RI, VT

Mail proposals to: U.S. EPA, Region 1, Enviro Education Grants (MGM), 1 Congress Street, Suite 1100, Boston, MA 02114.

Information: Kristen Conroy, (617) 918-1069, conroy.kristen@epa.gov.

EPA Region II—NJ, NY, PR, VI

Mail proposals to: U.S. EPA, Region II, Enviro Education Grants, 26th Floor, 290 Broadway, New York, NY 10007-1866.

Information: Teresa Ippolito, (212) 637-3671, ippolito.teresa@epa.gov.

EPA Region III—DC, DE, MD, PA, VA, WV

Mail proposals to: U.S. EPA, Region III, Enviro Education Grants, Grants Management Section (3PM70), 1650 Arch Street, Philadelphia, PA 19103-2029.

Information: Ruth Corcino-Woodruff, (215) 814-5737, corcino-woodruff.ruth@epa.gov.

EPA Region IV—AL, FL, GA, KY, MS, NC, SC, TN

Mail proposals to: U.S. EPA, Region IV, Enviro Education Grants, Office of Public Affairs, 61 Forsyth Street, SW., Atlanta, GA 30303.

Information: Alice Chastain, (404) 562-8314, chastain.alice@epa.gov.

EPA Region V—IL, IN, MI, MN, OH, WI

Mail proposals to: U.S. EPA, Region V, Enviro Education Grants (P-19J), 77 West Jackson Boulevard, Chicago, IL 60604.

Information: Megan Gavin, (312) 353-5282, gavin.megan@epa.gov.

EPA Region VI—AR, LA, NM, OK, TX

Mail proposals to: U.S. EPA, Region VI, Enviro Education Grants (6XA), 1445 Ross Avenue, Dallas, TX 75202.

Information: Bonnie King, (214) 665-2215, king.bonita@epa.gov.

Region VII—IA, KS, MO, NE

Mail proposal to: U.S. EPA, Region VII, Enviro Education Grants, Office of External Programs, 901 N. 5th Street, Kansas City, KS 66101.

Information: Denise Morrison, (913) 551-7402, morrison.denise@epa.gov.

Region VIII—CO, MT, ND, SD, UT, WY

Mail proposals to: U.S. EPA, Region VIII, Enviro Education Grants, 999 18th Street (80C), Denver, CO 80202-2466.

Information: Christine Vigil, (800) 227-8917 ext. 6605, vigil.christine@epa.gov.

Region IX—AZ, CA, HI, NV, American Samoa, Guam

Mail proposals to: U.S. EPA, Region IX, Enviro Education Grants (PPA-2), 75 Hawthorne Street, San Francisco, CA 94105.

Information: Sharon Jang, (415) 947-4252, jang.sharon@epa.gov.

Region X—AK, ID, OR, WA

Mail proposals to: U.S. EPA, Region X, Enviro Education Grants, Public Environmental Resource Center, 1200 Sixth Avenue (ETPA-124), Seattle, WA 98101.

Information: Sally Hanft, (800) 424-4372, (206) 553-1207,hanft.sally@epa.gov.

Appendix A—Federal Forms and Instructions

Instructions for the SF 424-Application

This is a standard Federal form to be used by applicants as a required face sheet for the Environmental Education Grants Program. These instructions are modified for this program only and do not apply to any other Federal program.

1. Choose “Non-Construction”—under Application—construction costs are unallowable.

2. Fill in the date you forward application to EPA. Leave “Applicant Identifier” blank as it will be a federal ID number filled in by EPA. If you have a state ID number, it goes on the line directly below.

3. State use only (if applicable) or leave blank.

4. DUNS Number: All organizations making application for federal grant funds must have a DUNS Identification Number. Enter it into the block entitled “Federal Identifier” or if you use a form from another Web site, you may enter the DUNS number in Section 5. You may acquire a DUNS number via telephone or Web site from Dun and Bradstreet. The Web site is http://www.dnb.com and the toll free phone number is 1-866-705-5711.

5. Legal name of applicant organization, name of primary organizational unit which will undertake the grant activity, complete address of the applicant organization, and name, telephone, FAX number and e-mail address of the person to contact on matters related to this application. You do not have to list the “county” as part of the address.

6. Enter Employer Identification Number (EIN) as assigned by the Internal Revenue Service. You can obtain this number from your payroll office. It is the same Federal Identification Number which appears on W-2 forms. If your organization does not have a number, you may obtain one by calling the Taxpayer Services number for the IRS.

7. Enter the appropriate letter in the space provided and if you are a not-for-profit organization you must be categorized as a 501(c)(3) by IRS to be eligible for this grant program

8. Check the box marked “new” since all proposals must be for new projects.

9. Enter U.S. Environmental Protection Agency.

10. Enter 66.951 Environmental Education Grants Program

11. Enter a descriptive title of the project—please make it brief and also helpful as a descriptive title to be used in press releases and grant profiles which go onto our web site.

12. List only the largest areas affected by the project (e.g., State, counties, cities).

13. Please see Section I(A) in Solicitation Notice for specifics on project/budget periods.

14. In (a) list the Congressional District where the applicant organization is located; and in (b) any District(s) affected by the program or project. If your project covers many areas, several congressional districts will be listed. If it covers the entire state, simply put in STATEWIDE. If you are not sure about the congressional district, call the County Voter Registration Department.

15. Amount requested or to be contributed during the funding/budget period by each contributor. Line (a) is for the amount of money you are requesting from EPA. Lines (b-e) are for the amounts either you or another organization are providing for this project. Line (f) is for any program income which you expect will be generated by this project. Examples of program income are fees for services performed, income generated from the sale of materials produced with the grant funds, or admission fees to a conference financed by the grant funds. The total of lines (b-e) must be at least 25% of line (g), because this grant program has a matching requirement of 25% of the TOTAL ALLOWABLE PROJECT COSTS. Divide line (a) by three to determine the smallest match allowable for your proposal. Value of in-kind contributions should be included on appropriate lines as applicable. For multiple program funding, use totals and show breakdown using same categories as item 15.

16. Check (b) (NO) since this program is exempt from this requirement.

17. This question applies to the applicant organization, not the person who signs as the authorized representative. Categories of debt include delinquent audit disallowances, loans and taxes.

18. The authorized representative is the person who is able to contract or obligate your agency to the terms and conditions of the grant. (Please sign with blue ink.) A copy of the governing body's authorization for you to sign this application as official representative must be on file in the applicant's office.

Instructions for the SF-424A—Budget

This is a standard federal form used by applicants as a basic budget. These instructions are modified for this grant program only and do not apply to any other federal Program.

Section A—Budget Summary—Do not complete—Leave blank for this program.

Section B—Budget Categories—Complete Columns (1), (2) and (5) as stated below.

All funds requested and contributed as a match must be listed under the appropriate Object Class categories listed on this form. Please round figures to the nearest dollar. Include federal funds in column (1); Non-federal (matching) funds in column (2); then add sideways and put the totals in column (5) for all categories. Many applicants will have blank lines in some Object Class Categories and no applicant should use line 6(g) Construction because it is an unallowable cost for this program. Note: Your total dollar figures on the Form 424 and 424A and detailed budget should all be the same. Your detailed budget should list costs under the same object class categories used on this form, but with significantly more information.

Line 6(i)—Show the totals of lines 6(a) through 6(h) in each column.

Line 6(j)—Show the amount of indirect costs, but ONLY if your organization already has an Indirect Cost Rate Agreement with a Federal Agency and has it on file, subject to audit.

Line 6(k)—Enter the total amount of Lines 6(i) and 6(j).

Line 7—Program Income—Enter the estimated amount of income, if any, expected to be generated from this project. Do not add or subtract this amount from the total project amount. Describe the nature and source of income in the detailed budget description and your planned use of the funds to enhance your project.

Detailed Itemization of Costs: The proposal must also contain a detailed budget description as specified in Section IV(A)(4) of this Notice, and should conform to the following:

Personnel: List all participants in the project by position title. Give the percentage of the budget period for which they will be fully employed on the project (e.g., half-time for half the budget period equals 25%, full-time for half the budget period equals 50%, etc.). The detail should include for each person: Percentage of Time on project X Annual Salary = Personnel Cost. List this data for all personnel and then put the total on the Form 424A.

Fringe Benefits: Indicate percentage of basic salary and what it includes, such as health insurance and retirement.

Travel: If travel is budgeted, show trips, travelers, destinations, and purpose of travel as well as costs.

Equipment: Identify each piece of equipment with a cost of $5,000 or more per unit to be purchased and explain the purpose for which it will be used. List less costly items under supplies.

Supplies: List categories of supplies; e.g., laboratory supplies and office supplies for items that can be grouped. If the supply budget is less than 2% of total costs, you do not need to itemize.

Contractual: Specify the nature and cost of such services and how costs were determined such as by using estimates or historical information. EPA may require review of contracts for personal services prior to their execution to assure that all costs are reasonable and necessary to the project.

Construction: Not allowable for this program.

Other: Specify all other costs under this category.

Indirect Costs: Not allowable unless you have an application on file with a federal agency. Provide the percentage rate used and an explanation of how indirect charges were calculated for this project.

Income: Describe the source of your income and how it will be used to enhance your project.

Appendix B—Checklist for Proposal and Performance Measures

Checklist for Content of Proposal—Please submit only the following documents in this order:

__Standard Federal Application Form (SF-424).

__Budget Form (SF-424A)—Section B—Use 3 columns—EPA share, match, and total.

__Project Summary Sheet—one page—format required.

__Project Description (why, who, how, and with what)—Format optional—use headings to help reviewers to find everything.

__Project Evaluation Criteria for key outputs and outcomes.

__Detailed Budget—Use two columns to show EPA and non-Federal portions for each expense. Use the same order and categories used on 424A with much greater detail.

__Timeline—List all major activities and milestones over project period.

__Organization and staffing—Summarize background information.

__Letters from partners taking responsibility for tasks or funding (optional).

Performance Measures

This chart provides examples of some of the outputs and outcomes Environmental Education Grants may produce. It is intended as guidance to define terms used in this announcement. Outputs and short-term outcomes must be accomplished and reported to EPA within the project reporting period. Progress should begin on medium-or long-term outcomes.

Project Performance Measures
Outputs: Short-term | Outcomes: Short-term | Outcomes: Medium-term | Outcomes: Long-term
Community education projects: Recruitment, Training, Workshops/Clinics, Field Trips, Educational Materials, Videos, CDs, Web sites, Conferences, Assessments | Students and communities learn skills in environmental projects; Teachers are motivated to train others on environmental topics; Increased environmental knowledge; State organizations develop capacity building efforts; Increased access to environmental education resources and programs | Students and communities make decisions that improve their environment; Specific actions are taken to improve the environment; Environmental stewardship is underway | Promotion of environmental stewardship. Improved environmental literacy. Changes in awareness about decisions that affect the environment. Establishment of sustainable environmental education programs.

BILLING CODE 9110-13-P

[FR Doc. 05-19708 Filed 9-29-05; 8:45 am]

BILLING CODE 6560-50-C